DEPARTMENT OF HOMELAND SECURITY

Coast Guard

33 CFR Part 165

[Docket No. USCG-2024-1065]

Safety Zone; Annual Fireworks Displays and Other Events in the Eighth Coast Guard District Requiring Safety Zones

AGENCY: Coast Guard, DHS.

ACTION: Notification of enforcement of regulation.

SUMMARY: The Coast Guard will enforce a safety zone for the Crescent City Countdown Club/New Year's Celebration fireworks display, from 11:30 p.m. on December 31, 2024, through 12:30 a.m. on January 1, 2025, to provide for the safety of life on the navigable waterways during this event. Our regulation for annual fireworks displays and other events in the Eighth Coast Guard District identifies this safety zone for this event on the Mississippi River in New Orleans, LA. During the enforcement period, entry into this zone is prohibited unless authorized by the Captain of the Port or a designated representative.

DATES: The regulations in 33 CFR 165.801 will be enforced for the Crescent City Countdown Club/New Year's Celebration safety zone listed in item 10 in table 5 to § 165.801 from 11:30 p.m. on December 31, 2024, through 12:30 a.m. on January 1, 2025.

FOR FURTHER INFORMATION CONTACT: If you have questions about this notification of enforcement, call or email Lieutenant Commander Xiaobin Tuo, Sector New Orleans, U.S. Coast Guard; 504-365-2246, email Xiaobin.Tuo@uscg.mil.

SUPPLEMENTARY INFORMATION: The Coast Guard will enforce a safety zone for the Crescent City Countdown Club/New Year's Celebration fireworks display from 11:30 p.m. on December 31, 2024, through 12:30 a.m. on January 1, 2025, to provide for the safety of life on the navigable waterways during this event. Our regulation for annual fireworks displays and other events in the Eighth Coast Guard District, 33 CFR 165.801 identifies this safety zone on the Lower Mississippi River MM 93.5-96.5, New Orleans, LA. During this enforcement period, as reflected in § 165.801(a) through (d), entry into this zone is prohibited unless authorized by the Captain of the Port or a designated representative.

In addition to this notification of enforcement in the Federal Register, the Coast Guard plans to provide notification of this enforcement period via Marine Safety Information Bulletin and Broadcast Notice to Mariners.

Dated: December 19, 2024.
G.A. Callaghan,
Captain, U.S. Coast Guard, Captain of the Port Sector New Orleans.

[FR Doc. 2024-31274 Filed 12-27-24; 8:45 am]

BILLING CODE 9110-04-P